COMMITTEE FOR PURCHASE FROM PEOPLE WHO ARE BLIND OR SEVERELY DISABLED

Procurement List; Proposed Addition and Deletions

AGENCY: Committee for Purchase From People Who Are Blind or Severely Disabled.

Action: Proposed addition to and deletions from procurement list.

SUMMARY: The Committee has received proposals to add to the Procurement List a service to be furnished by nonprofit agencies employing persons who are blind or have other severe disabilities, and to delete commodities previously furnished by such agencies.

COMMENTS MUST BE RECEIVED ON OR BEFORE: May 8, 2000.

ADDRESSES: Committee for Purchase From People Who Are Blind or Severely Disabled, Crystal Gateway 3, Suite 310, 1215 Jefferson Davis Highway, Arlington, Virginia 22202-4302.

FOR FURTHER INFORMATION CONTACT: Louis R. Bartalot (703) 603-7740.

SUPPLEMENTARY INFORMATION: This notice is published pursuant to 41 U.S.C. 47(a) (2) and 41 CFR 51-2.3. Its purpose is to provide interested persons an opportunity to submit comments on the possible impact of the proposed actions.

Addition

If the Committee approves the proposed addition, all entities of the Federal Government (except as otherwise indicated) will be required to procure the service listed below from nonprofit agencies employing persons who are blind or have other severe disabilities.

I certify that the following action will not have a significant impact on a substantial number of small entities. The major factors considered for this certification were:

1. The action will not result in any additional reporting, recordkeeping or other compliance requirements for small entities other than the small organizations that will furnish the service to the Government.

2. The action will result in authorizing small entities to furnish the service to the Government.

3. There are no known regulatory alternatives which would accomplish the objectives of the Javits-Wagner-O'Day Act (41 U.S.C. 46-48c) in connection with the service proposed for addition to the Procurement List. Comments on this certification are invited. Commenters should identify the statement(s) underlying the certification on which they are providing additional information.

The following service has been proposed for addition to Procurement List for production by the nonprofit agency listed:

Janitorial/Custodial

Fort Huachuca, Arizona

NPA: Cochise County Association for the Handicapped, Bisbee, Arizona

Deletions

I certify that the following action will not have a significant impact on a substantial number of small entities. The major factors considered for this certification were:

1. The action will not result in any additional reporting, recordkeeping or other compliance requirements for small entities.

2. The action will result in authorizing small entities to furnish the commodities to the Government.

3. There are no known regulatory alternatives which would accomplish the objectives of the Javits-Wagner-O'Day Act (41 U.S.C. 46-48c) in connection with the commodities proposed for deletion from the Procurement List.

The following commodities have been proposed for deletion from the Procurement List:

Cover, Shipping, Blade

1615-01-160-3748

Ladder, Straight (Wood)

5440-00-816-2585

Aerosol Paint, Lacquer

8010-00-584-3148

8010-00-721-9743

8010-00-141-2950

8010-00-965-2392

Enamel, Lacquer

8010-00-852-9033

8010-00-846-5117

8010-00-181-7371

8010-00-988-1458

8010-00-935-7085

Enamel, Aerosol, Waterbase

8010-01-350-5254

8010-01-350-5255

8010-01-350-4746

8010-01-350-4747

8010-01-350-4755

8010-01-350-5248

8010-01-350-5249

8010-01-350-5258

8010-01-397-3985

Enamel

8010-01-332-3743

8010-01-336-5061

8010-01-336-5063

8010-01-332-3742

8010-01-363-3376

Rinse Additive, Dishwashing

7930-00-619-9575

Leon A. Wilson, Jr.
Executive Director.

[FR Doc. 00-8682 Filed 4-6-00; 8:45 am]

BILLING CODE 6353-01-P